DEPARTMENT OF ENERGY

Federal Energy Regulatory Commission

Notice of Application To Convey Easement and Soliciting Comments, Motions To Intervene, and Protests

September 24, 2001.

Take notice that the following application has been filed with the Commission and is available for public inspection:

a. Application Type: Authorization to convey an easement across certain Coosa River Project, H. Neely Henry Development lands and waters to the City of Gadsden, Alabama for the development of a municipal golf course.

b. Project No. 2146-091.

c. Date Filed: August 15, 2001.

d. Licensee: Alabama Power Company.

e. Name of Project: Coosa River Hydroelectric Project.

f. Location: On the Coosa River, in Calhoun, St. Clair and Etowah Counties, Alabama. This project does not occupy any federal lands.

g. Filed Pursuant to: Federal Power Act, 16 U.S.C. 791(a)-825(r).

h. Licensee Contact: Mr. Jim Crew, Alabama Power Company, P.O. Box 2641, Birmingham, Alabama 35291. (205) 257-4265.

i. FERC Contact: Any questions on this notice should be addressed to Jean Potvin, jean.potvin@ferc.fed.us, or (202) 219-0022.

j. Deadline for filing comments and or motions: October 25, 2001.

All documents (original and eight copies) should be filed with Mr. David P. Boergers, Secretary, Federal Energy Regulatory Commission, 888 First Street, NE., Washington, DC 20426. Comments, protests and interventions may be filed electronically via the internet in lieu of paper. See, 18 CFR 385.2001(a)(1)(iii) and the instructions on the Commission's web site at http://www.ferc.fed.us/rfi/doorbell.htm. Please reference the following number, P-2146-091, on any comments or motions filed.

k. Description of Proposal: The licensee proposes to convey an easement for (1) a berm to hold water in a small lake at summer pool and an adjoining concrete rubble retaining wall, (2) certain excavation and fill activities, (3) a small bridge for a golf cart crossing, (4) associated drainage structures and (5) a permanent water quality monitoring station near the outfall of the small lake into the river channel.

l. Locations of the Application: A copy of the application is available for inspection and reproduction at the Commission's Public Reference Room, at 888 First Street, NE., Room 2A, Washington, DC 20426, or by calling 202-208-1371. The application may be viewed on-line at http://www.ferc.fed.us/online/rims.htm (call 202-208-2222 for assistance). A copy is also available for inspection and reproduction at the address in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-24298 Filed 9-27-01; 8:45 am]

BILLING CODE 6717-01-P